DEPARTMENT OF ENERGY

Federal Energy Regulatory Commission

[Docket No. CP09-457-000]

Kinder Morgan Louisiana Pipeline LLC; Notice of Request Under Blanket Authorization

August 27, 2009.

Take notice that on August 21, 2009, Kinder Morgan Louisiana Pipeline LLC (KMLP), filed in Docket No. CP09-457-000, a prior notice request pursuant to sections 157.205, 157.208, 157.211 and 157.212 of the Commission's regulations under the Natural Gas Act (NGA), for authorization to construct and operate facilities to connect the KMLP system to Egan Hub Storage, LLC (Egan Hub) in Acadia Parish, Louisiana in order to deliver revaporized liquefied natural gas to Egan Hub and subsequently to receive gas from Egan Hub, all as more fully set forth in the application which is on file with the Commission and open to public inspection. KMLP proposes to perform these activities under its blanket certificate issued June 22, 2007, in Docket No. CP06-451-000 [119 FERC ¶ 61,309 (2007)].

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, the facilities to be constructed by KMLP include approximately 300 feet of 24-inch lateral, a bi-directional meter station, piping and valves, electronic flow measurement equipment and such other appurtenant facilities as deemed necessary. The remainder of the interconnect facilities will be constructed by Egan Hub. This interconnect will allow KMLP to deliver up to 500 million standard cubic feet per day of re-vaporized liquefied natural gas to Egan Hub and subsequently to receive like quantities of gas from Egan Hub. The interconnect facilities will provide shippers on KMLP's system access to a new storage development. The estimated cost of the project is approximately $4.85 million. The proposed in-service date for the interconnect facilities is March 1, 2010.

Any questions regarding this application may be directed to Norman Watson, Director, Business Development, Kinder Morgan Louisiana Pipeline LLC, 500 Dallas Street, Suite 1000, Houston, Texas 77002 (713) 369-9219; or to Bruce Newsome, Vice President, 3250 Lacey Road, Suite 700, Downers Grove, IL 60515, (630) 725-3070.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy regulatory Commission, 888 First Street, NE., Washington, DC 20426.

Comment Date: 5 p.m. Eastern Time on October 26, 2009.

Kimberly D. Bose,
Secretary.

[FR Doc. E9-21239 Filed 9-2-09; 8:45 am]

BILLING CODE 6717-01-P